DEPARTMENT OF ENERGY

Federal Energy Regulatory Commission

Combined Notice of Filings

Take notice that the Commission has received the following Natural Gas Pipeline Rate and Refund Report filings:

Filings Instituting Proceedings

Docket Numbers: RP12-600-000.

Applicants: El Paso Natural Gas Company.

Description: Letter Agreement Update Filing to be effective 5/11/2012.

Filed Date: 4/10/12.

Accession Number: 20120410-5092.

Comments Due: 5 p.m. ET 4/23/12.

Docket Numbers: RP12-601-000.

Applicants: Iroquois Gas Transmission System, L.P.

Description: 04/10/12 Negotiated Rates—Freepoint Commodities LLC (RTS) to be effective 4/10/2012.

Filed Date: 4/10/12.

Accession Number: 20120410-5128.

Comments Due: 5 p.m. ET 4/23/12.

Docket Numbers: RP12-602-000.

Applicants: Horizon Pipeline Company, L.L.C.

Description: Removal of Expired Agreement—Ameren to be effective 5/11/2012.

Filed Date: 4/10/12.

Accession Number: 20120410-5142.

Comments Due: 5 p.m. ET 4/23/12.

Docket Numbers: RP12-603-000.

Applicants: Great Lakes Gas Transmission Limited Partnership.

Description: Update Pricing Penalties and FSA to be effective 5/14/2012.

Filed Date: 4/11/12.

Accession Number: 20120411-5233.

Comments Due: 5 p.m. ET 4/23/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-586-001.

Applicants: Gulf South Pipeline Company, LP.

Description: Amendment to filing in Docket No. RP12-586 to be effective 4/1/2012.

Filed Date: 4/10/12.

Accession Number: 20120410-5073.

Comments Due: 5 p.m. ET 4/23/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 12, 2012.
Nathaniel J. Davis, Sr.,
Deputy Secretary.

[FR Doc. 2012-9564 Filed 4-19-12; 8:45 am]

BILLING CODE 6717-01-P